DEPARTMENT OF ENERGY

Federal Energy Regulatory Commission

[Docket No. RP01-478-001]

TransColorado Gas Transmission Company; Notice of Compliance Filing

August 15, 2001.

Take notice that on August 9, 2001, TransColorado Gas Transmission Company (TransColorado) tendered for filing as part of its FERC Gas Tariff, Original Volume No. 1, First Revised First Revised Sheet No. 247B, to be effective August 1, 2001.

TransColorado states that the filing is being made in compliance with the Commission's July 25, 2001, order in Docket No. RP01-478-000.

On July 25, 2001, the Commission issued an order in Docket No. RP01-478-000 approving proposed revisions to Section 23 (Negotiated Rates) of TransColorado's General Terms and Conditions and accepting tariff sheets to be effective August 1, 2001. However, the July 25th order directed TransColorado to modify its fuel tracking mechanism, as the Commission required in Columbia, to detail how TransColorado will reflect negotiated fuel.

TransColorado states that in compliance with the July 25th order it is adding the following language to Section 12.9 (Fuel Gas Reimbursement) of its General Terms and Conditions: “If, pursuant to Section 23.11 of the General Terms and Conditions, TransColorado negotiates a fuel retention rate different than the maximum rate level, TransColorado will credit the full recourse rate fuel retention amounts to the appropriate fuel retention accounts.”

TransColorado states that a copy of this filing has been served upon TransColorado's customers, the Colorado Public Utilities Commission and New Mexico Public Utilities Commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20954 Filed 8-20-01; 8:45 am]

BILLING CODE 6717-01-M